FEDERAL MARITIME COMMISSION

Ocean Transportation Intermediary License; Revocation

The Federal Maritime Commission hereby gives notice that the following Ocean Transportation Intermediary license has been revoked pursuant to section 19 of the Shipping Act of 1984 (46 U.S.C. Chapter 409) and the regulations of the Commission pertaining to the licensing of Ocean Transportation Intermediaries, 46 CFR part 515, effective on the corresponding date shown below:

License Number: 001890N.

Name: JIB International, Incorporated dba JIB International Transport dba JIB Worldwide Forwarding.

Address: 1822 West Kettleman Lane, #2, Lodi, CA 95242.

Date Revoked: December 31, 2011.

Reason: Failed to maintain a valid bond.

License Number: 1923F.

Name: Suddath Transportation Services, Inc. dba STS.

Address: 815 S. Main Street, Jacksonville, FL 32207.

Date Revoked: December 15, 2011.

Reason: Voluntarily surrendered license.

License Number: 001979F.

Name: Gulf States Forwarding, LLC.

Address: 1109 Aurora Avenue Metairie, LA 70005.

Date Revoked: December 28, 2011.

Reason: Voluntarily surrendered license.

License Number: 3433F.

Name: Chun, Song Nam dba Delta Express.

Address: 765 Route 83, Suite 122, Bensenville, IL 60106.

Date Revoked: December 10, 2011.

Reason: Failed to maintain a valid bond.

License Number: 4437F.

Name: Superior Freight Services, Inc.

Address: 1230 Trapp Road, Eagan, MN 55121.

Date Revoked: December 8, 2011.

Reason: Failed to maintain a valid bond.

License Number: 012035N.

Name: Abba Shipping Lines, Inc.

Address: 6918 NW., 51st Street, Miami, FL 33166.

Date Revoked: December 13, 2011.

Reason: Failed to maintain a valid bond.

License Number: 016901F.

Name: Ohlson International Logistics Incorporated.

Address: 960 Lunt Avenue, Elk Grove Village, IL 60007.

Date Revoked: December 2, 2011.

Reason: Failed to maintain a valid bond.

License Number: 018027N.

Name: Dimex Consulting, Inc.

Address: 12966 Euclid Street, Suite 250-D, Garden Grove, CA 92840.

Date Revoked: December 16, 2011.

Reason: Failed to maintain a valid bond.

License Number: 018457N.

Name: Seatrans Logistics Inc.

Address: 10740 Meridian North, Suite 205, Seattle, WA 98133.

Date Revoked: December 31, 2011.

Reason: Failed to maintain a valid bond.

License Number: 019042F.

Name: R.G. Associates, Inc. dba Interfreight SE.

Address: 21 Eastbrook Bend, Suite 220, Peachtree City, GA 30269.

Date Revoked: December 1, 2011.

Reason: Failed to maintain a valid bond.

License Number: 020576NF.

Name: AAC Transport, Inc.

Address: 147-35 183rd Street, Room 204, Springfield Gardens, NY 11413.

Date Revoked: December 27, 2011.

Reason: Failed to maintain a valid bond.

License Number: 020302N.

Name: Frank Noah dba Comis International.

Address: 18005 Savarona Way, Carson, CA 90746.

Date Revoked: December 30, 2011.

Reason: Failed to maintain a valid bond.

License Number: 020826NF.

Name: New World Forwarding LLC.

Address: 8524 Highway 6 North, Suite 276, Houston, TX 77095.

Date Revoked: December 14, 2011.

Reason: Failed to maintain valid bonds.

License Number: 021059NF.

Name: Trade Logistics Corp.

Address: 12999 SW., 135th Street, Miami, FL 33186.

Date Revoked: December 2, 2011.

Reason: Failed to maintain valid bonds.

License Number: 021523F.

Name: Allcargo International Shipping, Inc.

Address: 12808 Panhandle Road, Hampton, GA 30228.

Date Revoked: December 31, 2011.

Reason: Failed to maintain a valid bond.

License Number: 021734NF.

Name: HBI America LLC.

Address: 8300 NW., 53rd Street, Suite 350, Doral, FL 33166.

Date Revoked: December 16, 2011.

Reason: Failed to maintain valid bonds.

License Number: 021837N.

Name: Cargo America, Inc.

Address: 332 S. Wayside Drive, Houston, TX 77011.

Date Revoked: November 10, 2010.

Reason: Failed to maintain a valid bond.

License Number: 022865N.

Name: Flier International Cargo, Inc.

Address: 7164 NW., 50th Street, Miami, FL 33166.

Date Revoked: December 17, 2011.

Reason: Failed to maintain a valid bond.

License Number: 023375F.

Name: SDS Trans Inc.

Address: 145-38 157th Street, 1st Floor, Jamaica, NY 11434.

Date Revoked: December 2, 2011.

Reason: Failed to maintain a valid bond.

Sandra L. Kusumoto,
Director, Bureau of Certification and Licensing.

[FR Doc. 2012-2228 Filed 1-31-12; 8:45 am]

BILLING CODE 6730-01-P